DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 9, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

Title: Pools and Associations—Annual Letter.

OMB Control Number: 1530-0007.

Type of Review: Reinstatement of a previously approved collection.

Description: Information collected determines acceptable percent for each pool and association Treasury Certified companies are given credit for on Treasury Schedule F for authorized ceded reinsurance in determining the companies' underwriting limitations.

Form: None.

Affected Public: Businesses or other for-profits.

Estimated Number of Respondents: 84.

Frequency of Response: On Occasion.

Estimated Total Number of Annual Responses: 84.

Estimated Time per Response: 1.5 hours.

Estimated Total Annual Burden Hours: 126.

Title: FS Form 2888—Application Form for U.S. Department of Treasury Accountable Official Stored Value Card (SVC).

OMB Control Number: 1530-0020.

Type of Review: Extension without change of a currently approved collection.

Description: This form is used to collect information from accountable officials requesting enrollment in the Treasury SVC program in their official capacity, to obtain authorization to initiate debit and credit entries to their bank or credit union accounts to load value on the cards, and to facilitate collection of any delinquent amounts that may become due and owning as a result of the use of the cards.

Form: FS Form 2888.

Affected Public: Individuals and households.

Estimated Number of Respondents: 7,500.

Frequency of Response: Once.

Estimated Total Number of Annual Responses: 7,500.

Estimated Time per Response: 10 minutes.

Estimated Total Annual Burden Hours: 1,250.

Title: Request To Reissue United States Savings Bonds.

OMB Control Number: 1530-0025.

Type of Review: Revision of a currently approved collection.

Description: The information is requested to support a request to reissue paper (definitive) Series EE, HH, and I United States Savings Bonds, Retirement Plan Bonds, and Individual Retirement Bonds and to indicate the new registration required.

Form: FS Form 4000.

Affected Public: Individuals and households.

Estimated Number of Respondents: 38,000.

Frequency of Response: On Occasion.

Estimated Total Number of Annual Responses: 38,000.

Estimated Time per Response: 30 minutes.

Estimated Total Annual Burden Hours: 19,000.

Title: Certificate of Identity.

OMB Control Number: 1530-0026.

Type of Review: Reinstatement of a previously approved collection.

Description: The information is requested to establish the identity of the owner of U.S. Savings Securities in a claim for payment by a disinterested person.

Form: FS Form 0385.

Affected Public: Individuals and households.

Estimated Number of Respondents: 1,400.

Frequency of Response: Once.

Estimated Total Number of Annual Responses: 1,400.

Estimated Time per Response: 10 minutes.

Estimated Total Annual Burden Hours: 234.

Title: Special Form of Request for Payment of U.S. Savings and Retirement Sec. Where Use of a Detached Request is authorized.

OMB Control Number: 1530-0028.

Type of Review: Reinstatement of a previously approved collection.

Description: The information is requested to establish ownership and request for payment of United States Savings Bonds, Savings Notes, Retirement Plan Bonds, and Individual Retirement Bonds.

Form: FS Form 1522.

Affected Public: Individuals and households.

Estimated Number of Respondents: 14,000.

Frequency of Response: Once.

Estimated Total Number of Annual Responses: 14,000.

Estimated Time per Response: 15 minutes.

Estimated Total Annual Burden Hours: 3,500.

Title: Claim for lost, stolen or destroyed United States registered Securities.

OMB Control Number: 1530-0029.

Type of Review: Reinstatement of a previously approved collection.

Description: The information is requested to establish ownership and support a request for relief due to the loss, theft, or destruction of United States Registered Securities.

Form: FS Form 1025.

Affected Public: Individuals and households.

Estimated Number of Respondents: 10.

Frequency of Response: Once.

Estimated Total Number of Annual Responses: 10.

Estimated Time per Response: 55 minutes.

Estimated Total Annual Burden Hours: 9.

Title: Report/Application for Relief on Account of Loss, Theft, or Destruction of U.S. Bearer Securities (Individuals).

OMB Control Number: 1530-0033.

Type of Review: Reinstatement of a previously approved collection.

Description: The information is requested to establish ownership and support a request for relief due to the loss, theft, or destruction of United States Bearer Securities owned by individuals.

Form: FS Form 1022-1.

Affected Public: Individuals and households.

Estimated Number of Respondents: 10.

Frequency of Response: Once.

Estimated Total Number of Annual Responses: 10.

Estimated Time per Response: 55 minutes.

Estimated Total Annual Burden Hours: 9.

Title: Report/Application for Relief on Account of Loss, Theft or Destruction of U.S. Bearer Securities (Organizations).

OMB Control Number: 1530-0034.

Type of Review: Reinstatement of a previously approved collection.

Description: The information is requested to establish ownership and support a request for relief due to the loss, theft, or destruction of United States Bearer Securities.

Form: FS Form 1022.

Affected Public: Businesses or other for-profits.

Estimated Number of Respondents: 10.

Frequency of Response: Once.

Estimated Total Number of Annual Responses: 10.

Estimated Time per Response: 55 minutes.

Estimated Total Annual Burden Hours: 9.

Title: Description of United States Savings Bonds Series HH/H and Description of United States Bonds/Notes.

OMB Control Number: 1530-0037.

Type of Review: Reinstatement of a previously approved collection.

Description: The information collected is necessary to obtain information describing an owner's holding of United States Securities.

Forms: FS Form 2490, FS Form 1980.

Affected Public: Individuals and households.

Estimated Number of Respondents: 950.

Frequency of Response: Once.

Estimated Total Number of Annual Responses: 950.

Estimated Time per Response: 6 minutes.

Estimated Total Annual Burden Hours: 95.

Title: Affidavit of Forgery for United States Savings Bonds.

OMB Control Number: 1530-0040.

Type of Review: Reinstatement of a previously approved collection.

Description: The information is requested to establish whether the registered owner signed the request for payment or if the signature was a forgery.

Form: FS Form 0974.

Affected Public: Individuals and households.

Estimated Number of Respondents: 10.

Frequency of Response: On occasion.

Estimated Total Number of Annual Responses: 10.

Estimated Time per Response: 15 minutes.

Estimated Total Annual Burden Hours: 3.

Title: Affidavit by Individual Surety.

OMB Control Number: 1530-0047.

Type of Review: Reinstatement of a previously approved collection.

Description: The information is requested to support a request to serve as surety for an indemnification agreement on a Bond of Indemnity.

Form: FS Form 4094.

Affected Public: Individuals and households.

Estimated Number of Respondents: 10.

Frequency of Response: Once.

Estimated Total Number of Annual Responses: 10.

Estimated Time per Response: 55 minutes.

Estimated Total Annual Burden Hours: 9.

Authority: 44 U.S.C. 3501 et seq.

Dated: November 5, 2019.
Spencer W. Clark,
Treasury PRA Clearance Officer.

[FR Doc. 2019-24444 Filed 11-7-19; 8:45 am]

BILLING CODE 4810-AS-P